DEPARTMENT OF ENERGY

Federal Energy Regulatory Commission

[Docket No. IC10-574-000]

Commission Information Collection Activities (FERC-574); Comment Request; Extension

August 2, 2010.

AGENCY: Federal Energy Regulatory Commission.

ACTION: Notice of proposed information collection and request for comments.

SUMMARY: In compliance with the requirements of section 3506(c)(2)(A) of the Paperwork Reduction Act of 1995, 44 U.S.C. 3506(c)(2)(A) (2006), (Pub. L. No. 104-13), the Federal Energy Regulatory Commission (Commission or FERC) is soliciting public comment on the proposed information collection described below.

DATES: Comments in consideration of the collection of information are due October 8, 2010.

ADDRESSES: Comments may be filed either electronically (eFiled) or in paper format, and should refer to Docket No. IC10-574-000. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original and two (2) paper copies of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at http://www.ferc.gov/docs-filing/elibrary.asp, by searching on Docket No. IC10-574. For user assistance, contact FERC Online Support by e-mail at ferconlinesupport@ferc.gov, or by phone at: (866) 208-3676 (toll-free), or (202) 502-8659 for TTY.

FOR FURTHER INFORMATION: Ellen Brown may be reached by e-mail at DataClearance@FERC.gov, telephone at (202) 502-8663, and fax at (202) 273-0873.

SUPPLEMENTARY INFORMATION: The information collected under the requirements of FERC-574, “Gas Pipeline Certificates: Hinshaw Exemption” (OMB No. 1902-0116), is used by the Commission to implement the statutory provisions of Sections 1(c), 4 and 7 of the Natural Gas Act (NGA) (Pub. L. 75-688) (15 U.S.C. 717-717w). Natural gas pipeline companies file applications with the Commission furnishing information in order for a determination to be made as to whether the applicant qualifies for an exemption under the provisions of the Natural Gas Act (Section 1(c)). If the exemption is granted, the natural gas pipeline company is not required to file certificate applications, rate schedules, or any other applications or forms prescribed by the Commission.

The exemption applies to companies engaged in the transportation or sale for resale of natural gas in interstate commerce if: (a) They receive gas at or within the boundaries of the state from another person at or within the boundaries of that state; (b) such gas is ultimately consumed in such state; (c) the rates, service and facilities of such company are subject to regulation by a State Commission; and (d) that such State Commission is exercising that jurisdiction. The data required to be filed by pipeline companies for an exemption are specified by Title 18 Code of Federal Regulations (CFR) Part 152.

Action: The Commission is requesting a three-year extension of the FERC-574 reporting requirements, with no changes.

Burden Statement: The estimated annual public reporting burden for FERC-574 is reduced from the estimate made three years ago due to the results of an analysis of recent filings showing that 60 hours per response is a more accurate estimate for the average burden hours per response than the 245 hours used in the 2007 estimate.

FERC data collection | Number of respondents (1) | Average number of responses per respondent (2) | Average burden hours per response (3) | Total annual burden hours
|  |  |  | (1)×(2)×(3)
FERC-574 | 1 | 1 | 60 | 60

The total estimated annual cost burden to respondents is $3,977 (60 hours/2,080 hours ¹ per year, times $137,874 ²).

¹ Estimated number of hours an employee works each year.

² Estimated average annual cost per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Nathaniel J. Davis, Sr.,
Deputy Secretary.

[FR Doc. 2010-19523 Filed 8-6-10; 8:45 am]

BILLING CODE 6717-01-P